DEPARTMENT OF THE INTERIOR

Bureau of Land Management

[AZ-210-5410-FR-A508; AZA-33808 and AZ-210-5410-FR-A508; AZA-33809]

Correction to Notice of Realty Action: Applications for Conveyance of Federal Mineral Interests, Maricopa County, AZ

AGENCY: Bureau of Land Management, Interior.

ACTION: Correction notice.

SUMMARY: This notice amends the Notice of Realty Action for 2 Applications for the Conveyance of Federal Mineral Interest, Maricopa County, Arizona, published in 72 FR 46497-46498. Under the sections entitled SUPPLEMENTARY INFORMATION, the following corrections are made. The lands proposed for purchase and conveyance of the Federally-owned mineral interest is changed to:

Gila and Salt River Base and Meridian, Maricopa County, Arizona

T. 4 N., R. 2 W.,

Sec. 10, SE¼; Sec. 11, NW¼SW¼, SW¼NE¼SW¼, E½NE¼SW¼; Sec. 14, E½NE¼NW¼, NE¼NW¼SW¼.

The area described contains 260 acres more or less, in Maricopa County.

Gila and Salt River Base and Meridian, Maricopa County, Arizona

T. 4 N., R. 2 W.,

Sec. 14, NW¼ NW¼.

The area described contains 40 acres more or less, in Maricopa County.

Dated: August 23, 2007.
Teresa A. Raml,
Phoenix District Manager.

[FR Doc. E7-17307 Filed 8-30-07; 8:45 am]

BILLING CODE 4310-32-P